DEPARTMENT OF TRANSPORTATION

Surface Transportation Board

[STB Finance Docket No. 33980]

Riverview Trenton Railroad Company—Acquisition and Operation Exemption—Crown Enterprises, Inc.

Riverview Trenton Railroad Company (Riverview), a noncarrier, has filed a verified notice of exemption under 49 CFR 1150.31 to acquire from Crown Enterprises, Inc. and operate approximately 1.5 miles of rail line within a 76-acre parcel in Riverview and Trenton, MI.¹ The line connects with the track of the Canadian National Railway Company subsidiary Grand Trunk Western Railroad, Inc. (CN), over which Consolidated Rail Corporation (Conrail) has operated, at the exit from the southwesterly edge of the 195.45-acre DSC site, as the track traverses diagonally across the intersection of King Road and W. Jefferson Avenue, in Trenton, near the FN Tower and CN River Subdivision milepost 10.96. The line also connects with the track of the CN as the line exits the 76-acre parcel at the northwest corner where it traverses W. Jefferson Avenue near its junction with Ford Avenue in Riverview and extends into the so-called CN Penn Salt Yard, over which Conrail has operated, near CN River Subdivision milepost 9.39.²

¹ In addition, Riverview has acquired from DSC Ltd. (DSC), a noncarrier and nonaffiliate, related track and trackage rights within a 195.45-acre industrial site located adjacent to Riverview's 76-acre parcel.

² Riverview reports that all operations will occur within the Conrail Detroit Shared Asset Area as designated in a transaction approved by the Board, and consummated by the parties on June 1, 1999. See CSX Corporation and CSX Transportation, Inc., Norfolk Southern Corporation and Norfolk Southern Railway Company—Control and Operating Leases/Agreements—Conrail Inc. and Consolidated Rail Corporation, STB Finance Docket No. 33388, Decision No. 89 (STB served July 23, 1998).

This transaction is related to STB Finance Docket No. 33979, CenTra, Inc., et al.—Continuance in Control Exemption—Riverview Trenton Railroad Company, wherein CenTra, Inc., et al. has filed a verified notice to continue in control of Riverview upon its becoming a Class III rail carrier.

The transaction was expected to be consummated immediately after the effective date of the exemption. The earliest the transaction could be consummated was December 20, 2000, 7 days after the exemption was filed.³

³ Riverview notes that it will apply to CN and Conrail for switching and interchanging of traffic to and from the tracks it owns, and/or will operate under a trackage and right-of-way agreement to furnish cars, containers and trailers for the movement of traffic of Riverview and to provide service to move the resulting traffic generated by the proposed operation focusing upon intermodal shipments, but that it will not enter or operate any track or right-of-way of CN or Conrail.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33980, must be filed with the Surface Transportation Board, Office of the Secretary, Case Control Unit, 1925 K Street, NW., Washington, DC 20423-0001. In addition, a copy of each pleading must be served on Daniel C. Sullivan, Esq., Sullivan & Hincks, 122 W. 22nd Street, Suite 350, Oak Brook, IL 60523.

Board decisions and notices are available on our website at “WWW.STB.DOT.GOV.”

Decided: December 29, 2000.
By the Board, David M. Konschnik, Director, Office of Proceedings.
Vernon A. Williams
Secretary.

[FR Doc. 01-330 Filed 1-5-01; 8:45 am]

BILLING CODE 4915-00-P